ENVIRONMENTAL PROTECTION AGENCY

[FRL-6528-2]

Science Advisory Board; Public Advisory Committee Meetings

Pursuant to the Federal Advisory Committee Act, Public Law 92-463, notice is hereby given that two committees of the Science Advisory Board will hold public teleconference meetings on the dates and times noted below. All times noted are Eastern Time. All meetings are open to the public, however, seating and teleconference lines are limited and available on a first-come basis.

1. Integrated Risk Project (IRP) Peer Review Subcommittee

The Integrated Risk Project (IRP) Peer Review Subcommittee of the Science Advisory Board will meet Tuesday February 15, 2000 from 3:00 to 5:00 pm. The meeting will be coordinated through a conference call connection located in Room 6013 of the Ariel Rios Building at the U.S. Environmental Protection Agency (EPA) located at 1200 Pennsylvania Avenue, NW, Washington, DC 20004. The building entrance is adjacent to the Federal Triangle Metro Stop on 12th Street. For directions and further information concerning the meeting, please contact the individuals given below. The public is welcome to attend the meeting physically or through a telephonic link.

Purpose of the Meeting

At this meeting the Integrated Risk Project Subcommittee will review the report of the Integrated Risk Project: Towards Integrated Environmental Decision-Making.

2. Research Strategies Advisory Committee (RSAC)

The Research Strategies Advisory Committee (RSAC) of the Science Advisory Board (SAB) will meet Wednesday, February 16, 2000 from 12:00 am to 2:00 pm. The meeting will be coordinated through a conference call connection located in Room 6013 of the Ariel Rios Building at the U.S. Environmental Protection Agency (EPA) located at 1200 Pennsylvania Avenue, NW, Washington, DC 20004. The building entrance is adjacent to the Federal Triangle Metro Stop on 12th Street. For directions and further information concerning the meeting, please contact the individuals given below. The public is welcome to attend the meeting physically or through a telephonic link.

Purpose of the Meeting

The purpose of this meeting is to plan for “Phase 2 of the Review of EPA's Peer Review Program: Effectiveness Evaluation.”

Proposed Charge

The Subcommittee has tasked itself to develop specific guidance for the subsequent SAB evaluation of how peer reviews are conducted by the Agency Programs and Regions using specific case studies. The Committee will work to develop (a) an overall strategy for the review, (b) criteria for the selection of projects to review, and (c) options for how the review might be conducted, together with a recommended approach for consideration by the SAB's Executive Committee.

For Further Information Concerning the Meetings

Members of the public desiring additional information about either meeting should contact Dr. John R. Fowle III, Deputy Staff Director and Designated Federal Officer (DFO), Science Advisory Board (1400A), U.S. EPA, Ariel Rios Building, 1200 Pennsylvania Avenue, NW, Washington, DC 20460; telephone/voice mail at (202) 564-4547; fax at (202) 501-0323; or via e-mail at fowle.jack@epa.gov or Ms. Wanda Fields, Management Assistant; telephone/voice mail at (202) 564-4539; fax at (202) 501-0256; or via email at fields.wanda@epa.gov. A copy of the draft agenda and copies of the background material will be available approximately two weeks prior to the meeting on the SAB website (www.epa.gov/sab) or from Ms. Wanda Fields at the fax or address noted above. Additional instructions about how to participate in either conference call can be obtained from Ms. Fields.

Making Oral Presentations During the Meetings

Members of the public who wish to make a brief oral presentation at either meeting must contact Dr. Fowle in writing (by email, by letter or by fax—see previously stated information) no later than 12 noon Eastern Time, Thursday, February 10, 2000 in order to be included on the Agenda. Public comments will be limited to three minutes per speaker or organization. The request should identify the name of the individual making the presentation, the organization (if any) they will represent, any requirements for audio visual equipment (e.g., overhead projector, 35mm projector, chalkboard, etc), and at least 35 copies of an outline of the issues to be addressed or of the presentation itself.

Additional information concerning the Science Advisory Board, its structure, function, and composition, may be found on the SAB Website (http://www.epa.gov/sab) and in the Annual Report of the Staff Director which is available from the SAB Publications Staff at (202) 564-4533 or via fax at (202) 501-0256.

Dated: January 13, 2000.
Donald G. Barnes, PhD,
Staff Director, Science Advisory Board.

[FR Doc. 00-1560 Filed 1-21-00; 8:45 am]

BILLING CODE 6560-50-P